OFFICE OF NATIONAL DRUG CONTROL POLICY

Leadership Conference on Medical Education in Substance Abuse

AGENCY: Office of National Drug Control Policy.

ACTION: Notice.

SUMMARY: A White House Leadership Summit on Screening and Brief Intervention for Substance Abuse, bringing together leaders in the field of medical education and healthcare policy will be held on Friday, September 5th, at the Eisenhower Executive Office Building on Pennsylvania Ave., NW., Washington DC, starting at 9 a.m. and concluding at 3 p.m. The overall objectives of the White House Summit are to recognize the advances achieved and the remaining challenges by the field in the widespread use of screening and brief intervention procedures designed to identify and promote behavioral change in populations engaged in risky, problematic substance use, or that have a diagnosis of abuse/addiction. Abuse of illicit drugs, alcohol, or prescription drugs adversely affects the health of millions of Americans. Wide-spread implementation of screening and brief intervention procedures is a public-health approach that can have a major, positive impact on public health.

The specific conference objectives are: (1) To share with health care professionals the positive benefits of screening and brief interventions; (2) To alert them to recent, rapid advances in the field on Screening, Brief Intervention and Referral to Treatment (SBIRT) procedures for substance abuse in various healthcare settings; (3) to promote adoption and use of new reimbursable healthcare procedural codes (screening and brief intervention) and examine cost-effectiveness of implementing the codes; (4) To address best practices for performing these procedures in various healthcare settings; (5) To identify challenges to and enlist their support to devise strategies to implement and sustain system-wide change for implementing these preventive medicine procedures (6) To disseminate and expand on the cost-effectiveness and analysis of these procedures (7) To inform educators of new teaching materials for widespread dissemination of these practices. Members of the public who wish to attend the meeting should telephone ONDCP's Leadership Conference on Medical Education telephone line at (202) 395-6750 to arrange building access.

FOR FURTHER INFORMATION CONTACT: June Sivilli at (202) 395-5526.

Dated: August 5, 2008.
Linda V. Priebe,
Assistant General Counsel.

[FR Doc. E8-18672 Filed 8-12-08; 8:45 am]

BILLING CODE 3180-02-P